FEDERAL MARITIME COMMISSION

Ocean Transportation Intermediary License Reissuances

The Commission gives notice that the following Ocean Transportation Intermediary licenses have been reissued pursuant to section 19 of the Shipping Act of 1984 (46 U.S.C. 40101).

License No.: 002302F.

Name: Whiting World-Wide Inc.

Address: 1901 NW. 79th Avenue, Miami, FL 33126.

Date Reissued: August 23, 2012.

License No.: 017342N.

Name: Trans Circle Inc.

Address: 1927 West 139th Street, Gardena, CA 90249.

Date Reissued: August 15, 2012.

License No.: 020088N.

Name: Hal-Mari International Logistics, Inc.

Address: 9122 Telephone Road, Houston, TX 77075.

Date Reissued: August 30, 2012.

Vern W. Hill,
Director, Bureau of Certification and Licensing.

[FR Doc. 2012-25050 Filed 10-10-12; 8:45 am]

BILLING CODE 6730-01-P